DEPARTMENT OF TRANSPORTATION

Federal Aviation Administration

Public Notice for Waiver of Aeronautical Land-Use Assurance Rickenbacker International Airport, Columbus, OH

AGENCY: Federal Aviation Administration, DOT.

ACTION: Notice of intent of waiver with respect to land.

SUMMARY: The Federal Aviation Administration (FAA) is considering a proposal to change a potion of the airport from aeronautical use to non-aeronautical use and to authorize the release of 68.277 acres of vacant airport property for the proposed development bulk warehouse/distribution facilities as a component of the Rickenbacker Global Logistics Park. The land was acquired by the Rickenbacker Port authority through two Quitclaim Deeds dated March 30, 1984 from the Administrator of General Services for the United States of America and May 11, 1999 from the United States of America, acting by and through the Secretary of the Air Force. There are no impacts to the airport by allowing the airport to dispose of the property. Approval does not constitute a commitment by the FAA to financially assist in the disposal of the subject airport property nor a determination of eligibility for grant-in-aid funding from the FAA. The CRAA will receive $1,468,000 for the parcel.

In accordance with section 47107(h) of title 49, United States Code, this notice is required to be published in the Federal register 30 days before modifying the land-use assurance that requires the property to be used for an aeronautical purpose.

DATES: Comments must be received on or before March 26, 2007.

ADDRESSES: Written comments on the Sponsor's request must be delivered or mailed to: Mary W. Jagiello, Program Manager, Detroit Airports District Office, 11677 South Wayne Road, Suite 107, Romulus, MI 48174.

FOR FURTHER INFORMATION CONTACT: Mary W. Jagiello, Program Manager, Federal Aviation Administration, Great Lakes Region, Detroit Airports District Office, DET ADO-608, 11677 South Wayne Road, suite 107, Romulus, Michigan 48174. Telephone Number (734-229-2956)/fax Number (734-229-2950). Documents reflecting this FAA action may be reviewed at this same location or at Rickenbacker International Airport, Columbus, Ohio.

SUPPLEMENTARY INFORMATION: Following is a legal description of the property located in the State of Ohio, County of Pickaway, Townships of Harrison and Madison, lying in Section 13, Township 3, Range 22 and Section 18, Township 10, Range 21, Congress Lands East of the Scioto, and being on, over and across the 2995.065 acre tract of land, and described as follows:

Beginning at a common corner of said 2995.065 acre tract and the 5 acre tract conveyed to Columbus Municipal Airport Authority by deed of record in Official Record 572, Page 615, and an angle point in the centerline of Ashville Pike (County Road 28);

Thence North 86°35′31″ West, a distance of 32.42 feet, with the line common to said 2995,065 and 5 acre tracts, and the centerline of Ashville Road, to a point marking the southeasterly corner of an 85.850 acre land release area prepared by R.D. Zande & Associates;

Thence leaving said centerline, across said 2995.065 acre tract and with the easterly line of said 85.850 acre area the following courses and distances:

North 03°13′30″ East, a distance of 82.93 feet, to a point of curvature;

Thence with the arc of a curve to the left, having a central angle of 80°04′07″, a radius of 35.00 feet, an arc length of 48.91 feet and a chord that bears North 36°48′33″, West, a chord distance of 45.03 feet to a point of tangency;

North 76°50′37″, West, a distance of 68.23 feet, to a point;

Thence North 44°20′31″, East, a distance of 205.23 feet, leaving the boundary of said 85.850 acre area, continuing across said 2995.065 acre tract to a point in the westerly line of a Runway Protection Zone;

Thence South 44°25′27″, East, a distance of 281.00 feet, with said westerly line of said Runway Protection Zone, continuing across said 2995.065 acre tract, to an angle point in the boundary of said Runway Protection Zone;

Thence North 37°02′42″, East, a distance of 996.67 feet, with the southerly line of said Runway Protection Zone, continuing across said 2995.065 acre tract, to a point.

Thence South 86°24′00″, East, a distance of 3456.65 feet, leaving said Runway Protection Zone boundary, continuing across said 2995.065 acre tract, to a point;

Thence across said 2995.065 acre tract the following courses and distances:

South 53°46′55″, East, a distance of 821.06 feet, to a point;

South 39°42′45″, East, a distance of 666.60 feet, to a common corner of said 2995.065 acre tract and the 201.7757 acre tract conveyed to The Landings at Rickenbacker by deed of record in Deed Volume 263, Page 721;

Thence North 86°24′00″, West, a distance of 1564.12 feet, across said 2995.065 acre tract, to a point on the east line of the 8.655 acre land release area prepared by MS Consultants, said point also being in the east line of Harrison Township and the West line of Madison Township;

Thence North 03°47′28″, East, a distance of 55.94 feet, with the boundary of said 8.655 acre land release area and said township line, to a point;

Thence North 86°35′35″, West, a distance of 2693.18 feet, leaving said township line, continuing with the boundary of said 8.655 acre land release area, to a point;

Thence South 03°43′38″, West, a distance of 46.61 feet, with the boundary of said 8.655 acre land release area, to the POINT OF BEGINNING, containing 68.277 acres, more or less.

Issued in Romulus, Michigan on February 7, 2007.
Irene R. Porter,
Manager, Detroit Airports District Office, FAA, Great Lakes Region.

[FR Doc. 07-803 Filed 2-22-07; 8:45 am]

BILLING CODE 4910-13-M